ENVIRONMENTAL PROTECTION AGENCY

[FRL-6887-3]

Gulf of Mexico Program Policy Review Board; Notice of Charter Renewal

AGENCY: Environmental Protection Agency (EPA).

ACTION: Notice of charter renewal.

SUMMARY: The Charter for the Environmental Protection Agency's Gulf of Mexico Program Policy Review Board (GMPPRB) will be renewed for an additional two-year period, as a necessary committee which is in the public interest, in accordance with the provisions of the Federal Advisory Committee Act (FACA), 5 U.S.C. App section 9(c). The purpose of GMPPRB is to provide advice and recommendations to the Administrator of EPA on issues associated with environmental management and policy of the Gulf of Mexico.

It is determined that GMPPRB is in the public interest in connection with the performance of duties imposed on the Agency by law.

Inquiries may be directed to Gloria Car, U.S. EPA, Building 1103, Room 202, Stennis Space Center, MS 39529.

Dated: October 10, 2000.
Gloria D. Car,
Designated Federal Officer.

[FR Doc. 00-26912 Filed 10-18-00; 8:45 am]

BILLING CODE 6560-50-U